DEPARTMENT OF TRANSPORTATION

Federal Aviation Administration

14 CFR Part 39

[Docket No. FAA-2011-1066; Directorate Identifier 2011-NM-050-AD; Amendment 39-16917; AD 2012-01-05]

RIN 2120-AA64

Airworthiness Directives; Airbus Airplanes

AGENCY: Federal Aviation Administration (FAA), Department of Transportation (DOT).

ACTION: Final rule.

SUMMARY: We are superseding an existing airworthiness directive (AD) for certain Airbus Model A300 B2-1C, B2K-3C, B2-203, B4-2C, B4-103, and B4-203 airplanes; and Model A300 B4-601, B4-603, B4-620, B4-622, B4-605R, B4-622R, and F4-605R airplanes. That AD currently requires repetitive inspections for cracking in Gear Rib 5 of the main landing gear (MLG) attachment fittings at the lower flange, and repair if necessary; and provides an optional spot-facing modification around certain fastener holes, which would terminate certain repetitive inspections. This new AD mandates the optional spot-facing modification. This AD was prompted by new cases of cracks discovered during scheduled maintenance checks. We are issuing this AD to prevent cracking of the Gear Rib 5 right-hand and left-hand attachment fitting at the lower flanges of the MLG, which could result in failed bolts penetrating through the rear spar and into a fuel tank, consequent fuel loss, and reduced structural integrity of the airplane.

DATES: This AD becomes effective June 12, 2012.

The Director of the Federal Register approved the incorporation by reference of certain publications listed in this AD as of June 12, 2012.

The Director of the Federal Register approved the incorporation by reference of certain other publications listed in this AD as of January 5, 2011 (75 FR 74610, December 1, 2010).

The Director of the Federal Register approved the incorporation by reference of certain other publications listed in this AD as of July 18, 2006 (71 FR 33994, June 13, 2006).

The Director of the Federal Register approved the incorporation by reference of certain other publications listed in this AD as of April 12, 2000 (65 FR 12077, March 8, 2000).

The Director of the Federal Register approved the incorporation by reference of certain other publications listed in this AD as of October 20, 1999 (64 FR 49966, September 15, 1999).

ADDRESSES: You may examine the AD docket on the Internet at http://www.regulations.gov or in person at the U.S. Department of Transportation, Docket Operations, M-30, West Building Ground Floor, Room W12-140, 1200 New Jersey Avenue SE., Washington, DC.

FOR FURTHER INFORMATION CONTACT: Dan Rodina, Aerospace Engineer, International Branch, ANM-116, Transport Airplane Directorate, FAA, 1601 Lind Avenue SW., Renton, Washington 98057-3356; telephone (425) 227-2125; fax (425) 227-1149.

SUPPLEMENTARY INFORMATION:

Discussion

We issued a notice of proposed rulemaking (NPRM) to amend 14 CFR part 39 to include an AD that would apply to the specified products. That NPRM was published in the Federal Register on October 11, 2011 (76 FR 62673), and proposed to supersede AD 2010-23-26, Amendment 39-16516 (75 FR 74610, December 1, 2010). That NPRM proposed to correct an unsafe condition for the specified products. The MCAI states:

Following the occurrence of cracks on the MLG [main landing gear] Rib 5 RH [right-hand] and LH [left-hand] attachment fitting lower flanges, DGAC [Direction Générale de l'Aviation Civile] France AD 2003-318(B) was issued to require repetitive inspections and, as terminating action, the embodiment of Airbus Service Bulletins (SB) A300-57-0235 and A300-57-6088 * * *.

Subsequently, new cases of cracks were discovered during scheduled maintenance checks by operators of A300B4 and A300-600 type aeroplanes on which the terminating action SB's were embodied. This condition, if not corrected, could affect the structural integrity of those aeroplanes.

To address and correct this condition, Airbus developed an inspection programme for aeroplanes modified in accordance with SB A300-57-0235 or A300-57-6088. This inspection programme was required to be implemented by DGAC France AD F-2005-113, original issue and later revision 1 [parallel to part of FAA AD 2006-12-13, Amendment 39-14639 (71 FR 33994, June 13, 2006)].

A new EASA [European Aviation Safety Agency] AD 2008-0111, superseding DGAC France AD F-2005-113R1, was issued to reduce the applicability. For aeroplanes already compliant with DGAC France AD F-2005-113R1, no further action was required.

Since EASA AD 2008-0111 issuance, Airbus reviewed the inspection programmes of SB A300-57A0246 and SB A300-57A6101 to introduce repetitive inspections including a new inspection technique for holes 47 and 54 and to reduce inspections threshold and intervals from 700 Flight Cycles (FC) to 400 FC until a revised terminating action is made available.

For the reasons stated above, EASA AD 2009-0081 superseded EASA AD 2008-0111 and required operators to comply with the new inspection programme introduced in Revisions 3 of Airbus SB A300-57A0246 and Airbus SB A300-57A6101.

EASA AD 2009-0081 R1 [which corresponds to FAA AD 2010-23-26, Amendment 39-16516 (75 FR 74610, December 1, 2010)] has been published to introduce an optional terminating action which consisted of spot-facing the sensitive holes of the MLG Rib 5 (LH and RH) bottom flanges.

Later discussions with Airbus have demonstrated the necessity to require the spot-facing modification as a final solution (no longer optional). This new [EASA] AD retains the inspection requirements of EASA AD 2009-0081 R1, which is superseded, and requires the spot-facing of sensitive holes of the MLG Rib 5 (LH and RH) bottom flanges as terminating action.

Required actions include repairing discrepancies (e.g., cracking or a second oversize or greater fastener hole). You may obtain further information by examining the MCAI in the AD docket.

Comments

We gave the public the opportunity to participate in developing this AD. We considered the comment received. The commenter supports the NPRM (76 FR 62673, October 11, 2011).

Explanation of Changes Made to This AD

We have made the following changes to this AD. These changes have not changed the intent of any provisions specified in this AD.

• Revised certain headers throughout this AD.

• Redesignated Notes 1, 2, and 3 of the NPRM (76 FR 62673, October 11, 2011) as paragraphs (g)(3), (q)(1), and (q)(2) of this AD, respectively.

• Redesignated paragraph (n) of the NPRM (76 FR 62673, October 11, 2011) as paragraph (q)(3) of this AD, and redesignated subsequent paragraphs accordingly.

• We have revised paragraphs (g), (i), (o)(1), (o)(3), (o)(4), and (o)(5) of this AD to clarify the specific actions for which the specified service information is required.

• We have revised the headings of Tables 1, 2, 3, 4, 5, and 6 of this AD to clarify the purpose of the content in those tables.

• We have revised the wording in paragraphs (q)(1), (q)(2), (q)(3), and (q)(4) of this AD (Notes 2 and 3 and paragraphs (n) and (r) of the NPRM (76 FR 62673, October 11, 2011), respectively); this change has not changed the intent of these paragraphs.

Conclusion

We reviewed the available data, including the comment received, and determined that air safety and the public interest require adopting the AD with the changes described previously—and minor editorial changes. We have determined that these minor changes:

• Are consistent with the intent that was proposed in the NPRM (76 FR 62673, October 11, 2011) for correcting the unsafe condition; and

• Do not add any additional burden upon the public than was already proposed in the NPRM (76 FR 62673, October 11, 2011).

Costs of Compliance

We estimate that this AD will affect about 155 products of U.S. registry.

The actions that are required by AD 2010-23-26, Amendment 39-16516 (75 FR 74610, December 1, 2010), and retained in this AD take about 79 work-hours per product, at an average labor rate of $85 per work hour. Required parts cost about $10,270 per product. Based on these figures, the estimated cost of the currently required actions is $16,985 per product.

We estimate that it will take about 100 work-hours per product to comply with the new basic requirements of this AD. The average labor rate is $85 per work-hour. Based on these figures, we estimate the cost of the AD on U.S. operators to be $1,317,500, or $8,500 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM (76 FR 62673, October 11, 2011), the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-16516 (75 FR 74610, December 1, 2010) and adding the following new AD:

2012-01-05 Airbus: Amendment 39-16917. Docket No. FAA-2011-1066; Directorate Identifier 2011-NM-050-AD.

(a) Effective Date

This airworthiness directive (AD) becomes effective June 12, 2012.

(b) Affected ADs

This AD supersedes AD 2010-23-26, Amendment 39-16516 (75 FR 74610, December 1, 2010).

(c) Applicability

This AD applies to the airplanes, certificated in any category, identified in paragraphs (c)(1) and (c)(2) of this AD; except airplanes on which Airbus Modification 11912 or 11932 has been installed.

(1) Airbus Model A300 B2-1C, B2K-3C, B2-203, B4-2C, B4-103, and B4-203 airplanes.

(2) Airbus Model A300 B4-601, B4-603, B4-620, B4-622, B4-605R, B4-622R, and F4-605R airplanes.

(d) Subject

Air Transport Association (ATA) of America Code 57: Wings.

(e) Reason

This AD was prompted by new cases of cracks discovered during scheduled maintenance checks. We are issuing this AD to prevent cracking of the Gear Rib 5 right-hand and left-hand attachment fitting at the lower flanges of the main landing gear (MLG), which could result in failed bolts penetrating through the rear spar and into a fuel tank, consequent fuel loss, and reduced structural integrity of the airplane.

(f) Compliance

You are responsible for having the actions required by this AD performed within the compliance times specified, unless the actions have already been done.

(g) Retained Repetitive Inspections

This paragraph restates the requirements of paragraph (g) of AD 2010-23-26, Amendment 39-16516 (75 FR 74610, December 1, 2010). Perform a detailed inspection and a high-frequency eddy current (HFEC) inspection to detect cracks in Gear Rib 5 of the MLG attachment fittings at the lower flange, in accordance with the Accomplishment Instructions of any applicable service bulletin listed in table 1 and table 2 of this AD, at the time specified in paragraph (g)(1) or (g)(2) of this AD. After April 12, 2000 (the effective date of AD 2000-05-07, Amendment 39-11616 (65 FR 12077, March 8, 2000)), the service bulletins listed in table 2 of this AD must be used to accomplish the actions required by this paragraph. Repeat the inspections thereafter at intervals not to exceed 1,500 flight cycles, until the actions specified in paragraph (i), (j), or (l) of this AD are accomplished.

Table 1—Revision 01 of Service Bulletins for Paragraph (g) of This AD
Model— | Airbus Service Bulletin— | Revision— | Dated—
A300 B4-601, B4-603, B4-620, B4-622, B4-605R, B4-622R and F4-605R airplanes | A300-57-6087 | 01 | March 11, 1998.
A300 B2-1C, B2K-3C, B2-203, B4-2C, B4-103, and B4-203 airplanes | A300-57-0234 | 01 | March 11, 1998.

Table 2—Other Revisions of Service Bulletins for Paragraph (g) of This AD
Model— | Airbus Service Bulletin— | Revision— | Dated—
A300 B4-601, B4-603, B4-620, B4-622, B4-605R, B4-622R, and F4-605R airplanes | A300-57A6087 | 02, including Appendix 01 | June 24, 1999.
|  | 03, including Appendix 01 | May 19, 2000.
|  | 04, including Appendix 01 | February 19, 2002.
|  | 05, including Appendix 01 | March 10, 2008.
A300 B2-1C, B2K-3C, B2-203, B4-2C, B4-103, and B4-203 airplanes | A300-57A0234 | 02 | June 24, 1999.
|  | 03, including Appendix 01 | September 2, 1999.
|  | 04, including Appendix 01 | May 19, 2000.
|  | 05, including Appendix 01 | February 19, 2002.

(1) For airplanes that have accumulated 20,000 or more total flight cycles as of March 9, 1998 (the effective date of AD 98-03-06, Amendment 39-10298 (63 FR 5224, February 2, 1998)): Inspect within 500 flight cycles after March 9, 1998.

(2) For airplanes that have accumulated less than 20,000 total flight cycles as of March 9, 1998 (the effective date of AD 98-03-06, Amendment 39-10298 (63 FR 5224, February 2, 1998)): Inspect prior to the accumulation of 18,000 total flight cycles, or within 1,500 flight cycles after March 9, 1998, whichever occurs later.

(3) For the purposes of this AD, a detailed inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

(h) Retained Repair for Any Crack Found During Inspections Required by Paragraph (g) of This AD

This paragraph restates the requirements of paragraph (h) of AD 2010-23-26, Amendment 39-16516 (75 FR 74610, December 1, 2010). If any crack is detected during any inspection required by paragraph (g) of this AD, prior to further flight, accomplish the requirements of paragraph (h)(1) or (h)(2) of this AD, as applicable.

(1) If a crack is detected at one hole only, and the crack does not extend out of the spotface of the hole, repair in accordance with the Accomplishment Instructions of the applicable service bulletin in table 2 of this AD.

(2) If a crack is detected at more than one hole, or if any crack at any hole extends out of the spotface of the hole, repair in accordance with a method approved by the Manager, International Branch, ANM-116, Transport Airplane Directorate, FAA, or the European Aviation Safety Agency (EASA) (or its delegated agent).

(i) Retained Terminating Modification for Repetitive Inspections Required by Paragraphs (g) and (j) of This AD

This paragraph restates the requirements of paragraph (i) of AD 2010-23-26, Amendment 39-16516 (75 FR 74610, December 1, 2010). Except as required by paragraph (l) of this AD, prior to the accumulation of 21,000 total flight cycles, or within 2 years after October 20, 1999 (the effective date of AD 99-19-26, Amendment 39-11313 (64 FR 49966, September 15, 1999)), whichever occurs later: Modify Gear Rib 5 of the MLG attachment fittings at the lower flange in accordance with the Accomplishment Instructions of the applicable service bulletin in table 3 of this AD. After July 18, 2006 (the effective date of AD 2006-12-13, Amendment 39-14639 (71 FR 33994, June 13, 2006)), Airbus Service Bulletin A300-57-6088, Revision 04, dated December 3, 2003 (for Model A300 B4-601, B4-603, B4-620, B4-622, B4-605R, B4-622R, and F4-605R airplanes); and Airbus Service Bulletin A300-57-0235, Revision 04, dated March 13, 2003, or Revision 05, dated December 3, 2003 (for Model A300 B2-1C, B2K-3C, B2-203, B4-2C, B4-103, and B4-203 airplanes); must be used to accomplish the actions required by this paragraph. Accomplishment of this modification constitutes terminating action for the repetitive inspection requirements of paragraphs (g) and (j) of this AD.

Table 3—Service Bulletins for Terminating Modification Required by Paragraph (i) of This AD
Model— | Airbus Service Bulletin— | Revision— | Dated—
A300 B4-601, B4-603, B4-620, B4-622, B4-605R, B4-622R, and F4-605R airplanes | A300-57-6088 | 01, including Appendix 01 | February 1, 1999.
|  | 02 | September 5, 2002.
|  | 04 | December 3, 2003.
A300 B2-1C, B2K-3C, B2-203, B4-2C, B4-103, and B4-203 airplanes | A300-57-0235 | 01, including Appendix 01 | February 1, 1999.
|  | 03 | September 5, 2002.
|  | 04 | March 13, 2003.
|  | 05 | December 3, 2003.

(j) Retained Additional Repetitive Inspections

This paragraph restates the requirements of paragraph (j) of AD 2010-23-26, Amendment 39-16516 (75 FR 74610, December 1, 2010). For airplanes on which the modification specified in paragraph (i) or (l) of this AD has not been done before July 18, 2006 (the effective date of AD 2006-12-13, Amendment 39-14639 (71 FR 33994, June 13, 2006)), perform a detailed and an HFEC inspection to detect cracks of the lower flange of Gear Rib 5 of the MLG at holes 43, 47, 48, 49, 50, 52, and 54, in accordance with the applicable service bulletin listed in table 4 of this AD. Perform the inspections at the applicable time specified in paragraph (j)(1), (j)(2), (j)(3), or (j)(4) of this AD. Repeat the inspections thereafter at intervals not to exceed 700 flight cycles until the terminating modification required by paragraph (l) of this AD is accomplished. Accomplishment of the inspections per paragraph (j) of this AD terminates the inspection requirements of paragraph (g) of this AD.

Table 4—Service Bulletins for Repetitive Inspections Required by Paragraph (j) of This AD
Model— | Airbus Service Bulletin— | Revision— | Dated—
A300 B4-601, B4-603, B4-620, B4-622, B4-605R, B4-622R, and F4-605R airplanes | A300-57A6087 | 04, including Appendix 01 | February 19, 2002.
|  | 05, including Appendix 01 | March 10, 2008.
A300 B2-1C, B2K-3C, B2-203, B4-2C, B4-103, and B4-203 airplanes | A300-57A0234 | 05, including Appendix 01 | February 19, 2002.

(1) For Model A300 B2-1C, B2K-3C, B2-203, B4-2C, B4-103, and B4-203 airplanes; and Model A300 B4-601, B4-603, B4-620, B4-622, B4-605R, B4-622R, and F4-605R airplanes that have accumulated 18,000 or more total flight cycles as of July 18, 2006 (the effective date of AD 2006-12-13, Amendment 39-14639 (71 FR 33994, June 13, 2006)): Within 700 flight cycles after July 18, 2006.

(2) For Model A300 B2-1C, B2K-3C, and B2-203 airplanes that have accumulated less than 18,000 total flight cycles as of July 18, 2006 (the effective date of AD 2006-12-13, Amendment 39-14639 (71 FR 33994, June 13, 2006)): Prior to the accumulation of 18,000 total flight cycles, or within 700 flight cycles after July 18, 2006, whichever occurs later.

(3) For Model A300 B4-2C, B4-103, and B4-203 airplanes that have accumulated less than 18,000 total flight cycles as of July 18, 2006 (the effective date of AD 2006-12-13, Amendment 39-14639 (71 FR 33994, June 13, 2006)): Prior to the accumulation of 14,500 total flight cycles, or within 700 flight cycles after July 18, 2006, whichever occurs later.

(4) For Model A300 B4-601, B4-603, B4-620, B4-622, B4-605R, B4-622R, and F4-605R airplanes that have accumulated less than 18,000 total flight cycles as of July 18, 2006 (the effective date of AD 2006-12-13, Amendment 39-14639 (71 FR 33994, June 13, 2006)): Prior to the accumulation of 11,600 total flight cycles, or within 700 flight cycles after July 18, 2006, whichever occurs later.

(k) Retained Crack Repair

This paragraph restates the requirements of paragraph (k) of AD 2010-23-26, Amendment 39-16516 (75 FR 74610, December 1, 2010). If any crack is detected during any inspection required by paragraph (j) of this AD, prior to further flight, accomplish the requirements of paragraphs (k)(1) and (k)(2) of this AD, as applicable.

(1) If a crack is detected at only one hole, and the crack does not extend out of the spotface of the hole, repair in accordance with Airbus Service Bulletin A300-57A0234, Revision 05, including Appendix 01, dated February 19, 2002 (for Model A300 B2-1C, B2K-3C, B2-203, B4-2C, B4-103, and B4-203 airplanes); or A300-57A6087, Revision 04, including Appendix 01, dated February 19, 2002, or A300-57A6087, Revision 05, including Appendix 01, dated March 10, 2008 (for Model A300 B4-601, B4-603, B4-620, B4-622, B4-605R, B4-622R, and F4-605R airplanes).

(2) If a crack is detected at more than one hole, or if any crack at any hole extends out of the spotface of the hole, repair in accordance with a method approved by the Manager, International Branch, ANM-116, or the EASA (or its delegated agent).

(l) Retained Terminating Modification for Repetitive Inspections Required by Paragraphs (g) and (j) of This AD for Certain Airplanes

This paragraph restates the requirements of paragraph (l) of AD 2010-23-26, Amendment 39-16516 (75 FR 74610, December 1, 2010). For airplanes on which the terminating modification in paragraph (i) of this AD has not been accomplished before July 18, 2006 (the effective date of AD 2006-12-13, Amendment 39-14639 (71 FR 33994, June 13, 2006)): At the earlier of the times specified in paragraphs (l)(1) and (l)(2) of this AD, modify Gear Rib 5 of the MLG attachment fittings at the lower flange. Except as provided by paragraph (m) of this AD, do the modification in accordance with the applicable service bulletin identified in table 5 of this AD. This action terminates the repetitive inspections requirements of paragraphs (g) and (j) of this AD.

(1) Prior to the accumulation of 21,000 total flight cycles, or within 2 years after October 20, 1999 (the effective date of AD 99-19-26, Amendment 39-11313 (64 FR 49966, September 15, 1999)), whichever is later.

(2) Within 16 months after July 18, 2006 (the effective date of AD 2006-12-13, Amendment 39-14639 (71 FR 33994, June 13, 2006)).

Table 5—Service Bulletins for Terminating Modification Required by Paragraph (l) of This AD
Model— | Airbus Service Bulletin— | Revision— | Dated—
A300 B4-601, B4-603, B4-620, B4-622, B4-605R, B4-622R and F4-605R airplanes | A300-57-6088 | 04 | December 3, 2003.
A300 B2-1C, B2K-3C, B2-203, B4-2C, B4-103, and B4-203 airplanes | A300-57-0235 | 04 | March 13, 2003.
|  | 05 | December 3, 2003.

(m) Retained Modification

This paragraph restates the requirements of paragraph (m) of AD 2010-23-26, Amendment 39-16516 (75 FR 74610, December 1, 2010). Where the applicable service bulletin specified in paragraph (l) of this AD specifies to contact Airbus for modification instructions; or if there is a previously installed repair at any of the affected fastener holes; or if a crack is found when accomplishing the modification: Prior to further flight, modify in accordance with a method approved by the Manager, International Branch, ANM-116, or the EASA (or its delegated agent).

(n) Retained Exception for No Reporting

This paragraph restates the requirements of paragraph (o) of AD 2010-23-26, Amendment 39-16516 (75 FR 74610, December 1, 2010). Although the service bulletins identified in tables 1, 2, 3, 4, 5, and 6 of this AD specify to submit certain information to the manufacturer, this AD does not include such a requirement.

(o) Retained Requirements With Revised Service Information

This paragraph restates the requirements of paragraph (p) of AD 2010-23-26, Amendment 39-16516 (75 FR 74610, December 1, 2010). Unless already done, do the following actions.

(1) At the applicable time specified in paragraph (o)(2) of this AD, perform a detailed inspection for cracking at the locations specified in paragraphs (o)(1)(i), (o)(1)(ii), and (o)(1)(iii) of this AD, in accordance with the Accomplishment Instructions of Airbus Mandatory Service Bulletin A300-57A0246, Revision 03, including Appendices 1 and 2, dated March 11, 2009, or Revision 04, including Appendices 1 and 2, dated September 9, 2009 (for Model A300 B2-1C, B2K-3C, B2-203, B4-2C, B4-103, and B4-203 airplanes); or Airbus Mandatory Service Bulletin A300-57A6101, Revision 03, including Appendices 1 and 2, dated March 11, 2009, or Revision 04, including Appendices 1 and 2, dated September 9, 2009 (for Model A300 B4-601, B4-603, B4-620, B4-622, B4-605R, B4-622R and F4-605R airplanes). As of the effective date of this AD Revision 04 of these service bulletins must be used to accomplish the actions required by this paragraph.

(i) The bottom flange and vertical web in the area between the wing rear spar/gear Rib 5 attachment and the forward reaction-rod pick-up lug.

(ii) On the inboard side, around the fastener holes at locations 43, 47 to 50, 52, and 54.

(iii) On the outboard side, the lower flange, the vertical web and around the fastener holes at locations 43, 47 to 50, 52 and 54.

(2) Do the inspection required by paragraph (o)(1) of this AD at the later of the times in paragraphs (o)(2)(i) and (o)(2)(ii) of this AD.

(i) Within 400 flight cycles after the accomplishment of the actions required by paragraph (i) or (l) of this AD, as applicable.

(ii) Within 400 flight cycles or 4 months after January 5, 2011 (the effective date of AD 2010-23-26, Amendment 39-16516 (75 FR 74610, December 1, 2010)), whichever occurs first.

(3) If no cracking is detected during the inspection required by paragraph (o)(1) of this AD, before further flight, perform a fluorescent penetrant inspection (FPI) at holes location 47 and 54, in the right-hand and left-hand MLG Rib 5 attachment fitting lower flange, in accordance with the Accomplishment Instructions of Airbus Mandatory Service Bulletin A300-57A0246, Revision 03, including Appendices 1 and 2, dated March 11, 2009, or Revision 04, including Appendices 1 and 2, dated September 9, 2009 (for Model A300 B2-1C, B2K-3C, B2-203, B4-2C, B4-103, and B4-203 airplanes); or Airbus Mandatory Service Bulletin A300-57A6101, Revision 03, including Appendices 1 and 2, dated March 11, 2009, or Revision 04, including Appendices 1 and 2, dated September 9, 2009 (for Model A300 B4-601, B4-603, B4-620, B4-622, B4-605R, B4-622R and F4-605R airplanes). As of the effective date of this AD, Airbus Mandatory Service Bulletin A300-57A0246, Revision 04, including Appendices 1 and 2, dated September 9, 2009; or Airbus Mandatory Service Bulletin A300-57A6101, Revision 04, including Appendices 1 and 2, dated September 9, 2009; as applicable; must be used to accomplish the actions required by this paragraph.

(4) Thereafter, at intervals not to exceed 400 flight cycles, repeat the detailed and FPI inspections, in accordance with the Accomplishment Instructions of Airbus Mandatory Service Bulletin A300-57A0246, Revision 03, including Appendices 1 and 2, dated March 11, 2009, or Revision 04, including Appendices 1 and 2, dated September 9, 2009 (for Model A300 B2-1C, B2K-3C, B2-203, B4-2C, B4-103, and B4-203 airplanes); or Airbus Mandatory Service Bulletin A300-57A6101, Revision 03, including Appendices 1 and 2, dated March 11, 2009, or Revision 04, including Appendices 1 and 2, dated September 9, 2009 (for Model A300 B4-601, B4-603, B4-620, B4-622, B4-605R, B4-622R and F4-605R airplanes); until the terminating action required by paragraph (p) of this AD has been accomplished. As of the effective date of this AD, Airbus Mandatory Service Bulletin A300-57A0246, Revision 04, including Appendices 1 and 2, dated September 9, 2009; or Airbus Mandatory Service Bulletin A300-57A6101, Revision 04, including Appendices 1 and 2, dated September 9, 2009; as applicable; must be used to accomplish the actions required by this paragraph.

(5) If any crack is detected during any of the inspections required by paragraphs (o)(1), (o)(3), and (o)(4) of this AD, and Airbus Mandatory Service Bulletin A300-57A0246, Revision 03, including Appendices 1 and 2, dated March 11, 2009, or Revision 04, including Appendices 1 and 2, dated September 9, 2009 (for Model A300 B2-1C, B2K-3C, B2-203, B4-2C, B4-103, and B4-203 airplanes); or Airbus Mandatory Service Bulletin A300-57A6101, Revision 03, including Appendices 1 and 2, dated March 11, 2009, or Revision 04, including Appendices 1 and 2, dated September 9, 2009 (for Model A300 B4-601, B4-603, B4-620, B4-622, B4-605R, B4-622R and F4-605R airplanes); recommends contacting Airbus for appropriate action: Before further flight, contact Airbus for a repair solution, and do the repair; or repair the cracking using a method approved by the Manager, International Branch, ANM-116, Transport Airplane Directorate, FAA, or EASA (or its delegated agent).

(p) New Terminating Action

Within 30 months after the effective date of this AD: Modify the spot-faces around all the fastener holes at locations 43, 47 to 50, 52, and 54 (except for spot-faces of holes which have been previously repaired) on the bottom flange MLG ribs, in accordance with the Accomplishment Instructions of Airbus Mandatory Service Bulletin A300-57-0254, Revision 01, including Appendix 1, dated June 14, 2011 (for Model A300 B2-1C, B2K-3C, B2-203, B4-2C, B4-103, and B4-203 airplanes); or Airbus Mandatory Service Bulletin A300-57-6110, Revision 01, including Appendix 1, dated June 6, 2011 A300 B4-601, B4-603, B4-620, B4-622, B4-605R, B4-622R and F4-605R airplanes (for Model A300 B4-601, B4-603, B4-620, B4-622, B4-605R, B4-622R and F4-605R airplanes). Accomplishing this modification terminates the repetitive inspection requirements of paragraph (o)(4) of this AD.

(q) Credit for Previous Actions

(1) This paragraph provides credit for initial detailed and HFEC inspections, as required by the introductory text of paragraph (g) of this AD, if those inspections were performed before April 12, 2000 (the effective date of AD 2000-05-07, Amendment 39-11616 (65 FR 12077, March 8, 2000)), using Airbus Service Bulletin A300-57A0234 (for Model A300 B2-1C, B2K-3C, B2-203, B4-2C, B4-103, and B4-203 airplanes) or A300-57A6087, both dated August 5, 1997 (for Model A300 B4-601, B4-603, B4-620, B4-622, B4-605R, B4-622R, and F4-605R airplanes).

(2) This paragraph provides credit for a modification, as required by paragraph (i) of this AD, if the modification was performed before April 12, 2000 (the effective date of AD 2000-05-07, Amendment 39-11616 (65 FR 12077, March 8, 2000)), using Airbus Service Bulletin A300-57-6088, dated August 5, 1998 (for Model A300 B4-601, B4-603, B4-620, B4-622, B4-605R, B4-622R and F4-605R airplanes); or Airbus Service Bulletin A300-57-0235, dated August 5, 1998 (for Model A300 B2-1C, B2K-3C, B2-203, B4-2C, B4-103, and B4-203 airplanes).

(3) This paragraph provides credit for the actions required by paragraphs (i) and (l) of this AD, if those actions were performed before July 18, 2006 (the effective date of AD 2006-12-13, Amendment 39-14639 (71 FR 33994, June 13, 2006)), using the applicable service information listed in table 6 of this AD.

Table 6—Previous Issues of Certain Service Bulletins
Model— | Airbus Service Bulletin— | Revision— | Dated—
A300 B2-1C, B2K-3C, B2-203, B4-2C, B4-103, and B4-203 airplanes | A300-57-0235 | 02, including Appendix 01 | September 27, 1999.
|  | 03 | September 5, 2002.
A300 B4-601, B4-603, B4-620, B4-622, B4-605R, B4-622R and F4-605R airplanes | A300-57-6088 | 02 | September 5, 2000.
|  | 03 | March 13, 2003.

(4) This paragraph provides credit for a modification of the spot-faces, as specified in paragraph (p) of this AD, if the modification was performed before the effective date of this AD using Airbus Mandatory Service Bulletin A300-57-0254, dated June 4, 2010 (for Model A300 B2-1C, B2K-3C, B2-203, B4-2C, B4-103, and B4-203 airplanes); or Airbus Mandatory Service Bulletin A300-57-6110, dated June 7, 2010 (for Model A300 B4-601, B4-603, B4-620, B4-622, B4-605R, B4-622R and F4-605R airplanes).

(r) Other FAA AD Provisions

The following provisions also apply to this AD:

(1) Alternative Methods of Compliance (AMOCs): The Manager, International Branch, ANM-116, FAA, has the authority to approve AMOCs for this AD, if requested using the procedures found in 14 CFR 39.19. In accordance with 14 CFR 39.19, send your request to your principal inspector or local Flight Standards District Office, as appropriate. If sending information directly to the International Branch, send it to ATTN: Dan Rodina, Aerospace Engineer, International Branch, ANM-116, Transport Airplane Directorate, FAA, 1601 Lind Avenue SW., Renton, Washington 98057-3356; telephone (425) 227-2125; fax (425) 227-1149. Information may be emailed to: 9-ANM-116-AMOC-REQUESTS@faa.gov. Before using any approved AMOC, notify your appropriate principal inspector, or lacking a principal inspector, the manager of the local flight standards district office/certificate holding district office. The AMOC approval letter must specifically reference this AD. AMOCs approved previously in accordance with AD 2000-05-07, Amendment 39-11616 (65 FR 12077, March 8, 2000); AD 2006-12-13, Amendment 39-14639 (71 FR 33994, June 13, 2006); and AD 2010-23-26, Amendment 39-16516 (75 FR 74610, December 1, 2010); are approved as AMOCs for the corresponding provisions of this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(s) Related Information

Refer to MCAI EASA Airworthiness Directive 2011-0029, dated February 24, 2011, and the service information specified in paragraphs (s)(1) through (s)(23) of this AD, for related information.

(1) Airbus Service Bulletin A300-57-0234, Revision 01, dated March 11, 1998.

(2) Airbus Service Bulletin A300-57A0234, Revision 02, dated June 24, 1999.

(3) Airbus Service Bulletin A300-57A0234, Revision 03, including Appendix 01, dated September 2, 1999.

(4) Airbus Service Bulletin A300-57A0234, Revision 04, including Appendix 01, dated May 19, 2000.

(5) Airbus Service Bulletin A300-57A0234, Revision 05, including Appendix 01, dated February 19, 2002.

(6) Airbus Service Bulletin A300-57-0235, Revision 01, including Appendix 01, dated February 1, 1999.

(7) Airbus Service Bulletin A300-57-0235, Revision 03, dated September 5, 2002.

(8) Airbus Service Bulletin A300-57-0235, Revision 04, dated March 13, 2003.

(9) Airbus Service Bulletin A300-57-0235, Revision 05, dated December 3, 2003.

(10) Airbus Mandatory Service Bulletin A300-57A0246, Revision 03, including Appendices 1 and 2, dated March 11, 2009.

(11) Airbus Mandatory Service Bulletin A300-57A0246, Revision 04, including Appendices 1 and 2, dated September 9, 2009.

(12) Airbus Mandatory Service Bulletin A300-57-0254, Revision 01, including Appendix 1, dated June 14, 2011.

(13) Airbus Service Bulletin A300-57-6087, Revision 01, dated March 11, 1998.

(14) Airbus Service Bulletin A300-57A6087, Revision 02, including Appendix 01, dated June 24, 1999.

(15) Airbus Service Bulletin A300-57A6087, Revision 03, including Appendix 01, dated May 19, 2000.

(16) Airbus Service Bulletin A300-57A6087, Revision 04, including Appendix 01, dated February 19, 2002.

(17) Airbus Service Bulletin A300-57A6087, Revision 05, including Appendix 01, dated March 10, 2008.

(18) Airbus Service Bulletin A300-57-6088, Revision 01, including Appendix 01, dated February 1, 1999.

(19) Airbus Service Bulletin A300-57-6088, Revision 02, dated September 5, 2002.

(20) Airbus Service Bulletin A300-57-6088, Revision 04, dated December 3, 2003.

(21) Airbus Mandatory Service Bulletin A300-57A6101, Revision 03, including Appendices 1 and 2, dated March 11, 2009.

(22) Airbus Mandatory Service Bulletin A300-57A6101, Revision 04, including Appendices 1 and 2, dated September 9, 2009.

(23) Airbus Mandatory Service Bulletin A300-57-6110, Revision 01, including Appendix 1, dated June 6, 2011.

(t) Material Incorporated by Reference

(1) You must use the following service information to do the actions required by this AD, unless the AD specifies otherwise. The Director of the Federal Register approved the incorporation by reference (IBR) of the following service information under 5 U.S.C. 552(a) and 1 CFR part 51 on the date specified.

(2) The following service information was approved for IBR on June 12, 2012:

(i) Airbus Mandatory Service Bulletin A300-57-0254, Revision 01, including Appendix 1, dated June 14, 2011.

(ii) Airbus Mandatory Service Bulletin A300-57-6110, Revision 01, including Appendix 1, dated June 6, 2011.

(3) The following service information was approved for IBR January 5, 2011 (75 FR 74610, December 1, 2010):

(i) Airbus Mandatory Service Bulletin A300-57A0246, Revision 03, including Appendices 1 and 2, dated March 11, 2009.

(ii) Airbus Mandatory Service Bulletin A300-57A0246, Revision 04, including Appendices 1 and 2, dated September 9, 2009.

(iii) Airbus Mandatory Service Bulletin A300-57A6101, Revision 03, including Appendices 1 and 2, dated March 11, 2009.

(iv) Airbus Mandatory Service Bulletin A300-57A6101, Revision 04, including Appendices 1 and 2, dated September 9, 2009.

(v) Airbus Service Bulletin A300-57A6087, Revision 05, including Appendix 01, dated March 10, 2008. (Appendix 01 of this document was incorrectly identified as “Appendix 05” in the document citation specified in table 8 of AD 2010-23-26, Amendment 39-16516 (75 FR 74610, December 1, 2010); all other references to Appendix 01 of this document in AD 2010-23-26 were correct.)

(4) The following service information was approved for IBR July 18, 2006 (71 FR 33994, June 13, 2006):

(i) Airbus Service Bulletin A300-57A0234, Revision 04, including Appendix 01, dated May 19, 2000.

(ii) Airbus Service Bulletin A300-57A0234, Revision 05, including Appendix 01, dated February 19, 2002.

(iii) Airbus Service Bulletin A300-57A6087, Revision 03, including Appendix 01, dated May 19, 2000.

(iv) Airbus Service Bulletin A300-57A6087, Revision 04, including Appendix 01, dated February 19, 2002.

(v) Airbus Service Bulletin A300-57-0235, Revision 03, dated September 5, 2002.

(vi) Airbus Service Bulletin A300-57-0235, Revision 04, dated March 13, 2003.

(vii) Airbus Service Bulletin A300-57-0235, Revision 05, dated December 3, 2003.

(viii) Airbus Service Bulletin A300-57-6088, Revision 02, dated September 5, 2002.

(ix) Airbus Service Bulletin A300-57-6088, Revision 04, dated December 3, 2003.

(5) The following service information was approved for IBR on April 12, 2000 (65 FR 12077, March 8, 2000):

(i) Airbus Service Bulletin A300-57A0234, Revision 02, dated June 24, 1999.

(ii) Airbus Service Bulletin A300-57A0234, Revision 03, including Appendix 01, dated September 2, 1999.

(iii) Airbus Service Bulletin A300-57A6087, Revision 02, including Appendix 01, dated June 24, 1999.

(6) The following service information was approved for IBR on October 20, 1999 (64 FR 49966, September 15, 1999).

(i) Airbus Service Bulletin A300-57-0234, Revision 01, dated March 11, 1998.

(ii) Airbus Service Bulletin A300-57-0235, Revision 01, including Appendix 01, dated February 1, 1999.

(iii) Airbus Service Bulletin A300-57-6087, Revision 01, dated March 11, 1998.

(iv) Airbus Service Bulletin A300-57-6088, Revision 01, including Appendix 01, dated February 1, 1999.

(7) For service information identified in this AD, contact Airbus SAS—EAW (Airworthiness Office), 1 Rond Point Maurice Bellonte, 31707 Blagnac Cedex, France; telephone +33 5 61 93 36 96; fax +33 5 61 93 44 51; email account.airworth-eas@airbus.com; Internet http://www.airbus.com.

(8) You may review copies of the service information at the FAA, Transport Airplane Directorate, 1601 Lind Avenue SW., Renton, Washington. For information on the availability of this material at the FAA, call 425-227-1221.

(9) You may also review copies of the service information that is incorporated by reference at the National Archives and Records Administration (NARA). For information on the availability of this material at an NARA facility, call 202-741-6030, or go to http://www.archives.gov/federal_register/code_of_federal_regulations/ibr_locations.html.

Issued in Renton, Washington, on January 6, 2012.
Ali Bahrami,
Manager, Transport Airplane Directorate, Aircraft Certification Service.

[FR Doc. 2012-9189 Filed 5-7-12; 8:45 am]

BILLING CODE 4910-13-P